DEPARTMENT OF TRANSPORTATION

National Highway Traffic Safety Administration

[Docket No. NHTSA 2001-10696; Notice 2]

Volkswagen of America, Inc., Grant of Application for Decision of Inconsequential Noncompliance

Volkswagen of America, Inc., (Volkswagen) has determined that approximately 225,000 vehicles produced between 1977 and August 6, 2001, do not meet the labeling requirements of paragraph S5.3(b) of Federal Motor Vehicle Safety Standard (FMVSS) No. 120 “Tire Selection and Rims for Motor Vehicles Other than Passenger Cars.” Pursuant to 49 U.S.C. 30118(d) and 30120(h), Volkswagen has petitioned for a determination that this noncompliance is inconsequential to motor vehicle safety and has filed an appropriate report pursuant to 49 CFR part 573, “Defect and Noncompliance Reports.”

Notice of receipt of the application was published, with a 30-day comment period, on October 3, 2001, in the Federal Register (66 FR 50499). NHTSA received no comments.

The noncompliant vehicles were produced by Volkswagen AG and were imported by Volkswagen. The noncompliance relates to MPVs produced and imported under the Vanagon and EuroVan model designations. On these vehicles, the manufacturer did not include tire size and rim designation on the certification label specified by 49 CFR part 567, but rather utilized the option in S5.3(b) of FMVSS 120 to provide that information on the separate tire information label. In doing so however, Volkswagen neglected to include the required vehicle GVWR and GAWR information on the tire information label.

Volkswagen believes that the failure of the tire information label to include the vehicle weight values is inconsequential to motor vehicle safety because the weights are included on the certification label and both labels are mounted on the driver side B-pillar of the vehicle.

Consumers interested in the vehicle weights would be able to find the values on the certification label where they are included pursuant to the requirements of Section 567.4.

The agency believes the true measure of inconsequentiality with respect to the noncompliance with FMVSS No. 120, paragraph S5.3, is whether the GVWR and GAWR information is readily available to consumers. One of the reasons that FMVSS No.120 requires that both labels include the GVWR and GAWR information is the fact that the labels need not be located close to one another. According to Volkswagen, the vehicle certification label, which includes the GVWR and GAWR, and the tire information label are adjacent to one another on the noncompliant vehicles. Both labels are mounted on the driver's side B-pillar, negating the need for both labels to include the GVWR and GAWR information. The agency believes this reduces the likelihood that consumers would not be able to locate this information.

In consideration of the foregoing, NHTSA has decided that the applicant has met its burden of persuasion that the noncompliance described is inconsequential to motor vehicle safety. Accordingly, Volkswagen's application is hereby granted, and the applicant is exempted from the obligation of providing notification of, and a remedy for, the noncompliance.

(49 U.S.C. 30118, 30120; delegations of authority at 49 CFR 1.50 and 501.8)
Issued on: April 17, 2002.
Stephen R. Kratzke,
Associate Administrator for Safety Performance Standards.

[FR Doc. 02-9830 Filed 4-22-02; 8:45 am]

BILLING CODE 4910-59-P